SECURITIES AND EXCHANGE COMMISSION

[File No. 500-1]

Apparel America, Inc. (n/k/a HSK Industries, Inc.), Decora Industries, Inc., Diversicon Holdings Corp., Flagship Global Health, Inc., Integrated Transportation Network Group, Inc., and Premier Wealth Management, Inc. (a/k/a Premiere Wealth Management, Inc.); Order of Suspension of Trading

June 13, 2011.

It appears to the Securities and Exchange Commission that there is a lack of current and accurate information concerning the securities of Apparel America, Inc. (n/k/a HSK Industries, Inc.) because it has not filed any periodic reports since the period ended January 31, 1998.

It appears to the Securities and Exchange Commission that there is a lack of current and accurate information concerning the securities of Decora Industries, Inc. because it has not filed any periodic reports since the period ended June 30, 2000.

It appears to the Securities and Exchange Commission that there is a lack of current and accurate information concerning the securities of Diversicon Holdings Corp. because it has not filed any periodic reports since the period ended December 31, 1998.

It appears to the Securities and Exchange Commission that there is a lack of current and accurate information concerning the securities of Flagship Global Health, Inc. because it has not filed any periodic reports since the period ended March 31, 2008.

It appears to the Securities and Exchange Commission that there is a lack of current and accurate information concerning the securities of Integrated Transportation Network Group, Inc. because it has not filed any periodic reports since the period ended September 30, 1999.

It appears to the Securities and Exchange Commission that there is a lack of current and accurate information concerning the securities of Premier Wealth Management, Inc. (a/k/a Premiere Wealth Management, Inc.) because it has not filed any periodic reports since the period ended September 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 13, 2011, through 11:59 p.m. EDT on June 24, 2011.

By the Commission.
Jill M. Peterson,
Assistant Secretary.

[FR Doc. 2011-14986 Filed 6-13-11; 4:15 pm]

BILLING CODE 8011-01-P